DEPARTMENT OF AGRICULTURE

Animal and Plant Health Inspection Service

[Docket No. APHIS-2014-0056]

Availability of a Final Environmental Assessment and Finding of No Significant Impact for the Field Release of Genetically Engineered Diamondback Moths

AGENCY: Animal and Plant Health Inspection Service, USDA.

ACTION: Notice of availability.

SUMMARY: We are advising the public that the Animal and Plant Health Inspection Service (APHIS) has prepared a final environmental assessment and finding of no significant impact and will issue a permit for the field release of diamondback moths that have been genetically engineered for repressible female lethality, also known as female autocide. Based on its finding of no significant impact, APHIS has determined that an environmental impact statement need not be prepared.

FOR FURTHER INFORMATION CONTACT: Ms. Chessa Huff-Woodard, Esq., Policy, Program and International Collaboration Chief, Biotechnology Regulatory Services, APHIS, 4700 River Road, Unit 147, Riverdale, MD 20737-1236; (301) 851-3943, email: chessa.d.huff-woodard@aphis.usda.gov.

SUPPLEMENTARY INFORMATION: On April 19, 2017, we published in the Federal Register (82 FR 18416-18417, Docket No. APHIS-2014-0056) a notice ¹ in which we announced the availability, for public review and comment, of an environmental assessment (EA) that examined the potential environmental impacts associated with the proposed field release of diamondback moths that have been genetically engineered for repressible female lethality, also known as female autocide.

¹ To view the notice, environmental assessment, finding of no significant impact, and the comments we received, go to https://www.regulations.gov/docket?D=APHIS-2014-0056.

We solicited comments on the EA for 30 days ending May 19, 2017. We received 670 comments by that date. Written responses to the comments we received on the EA can be found in the finding of no significant impact (FONSI).

In this document, we are advising the public of our finding of no significant impact regarding the field release of genetically engineered diamondback moths into the continental United States. The finding, which is based on the EA, reflects our determination that release of the genetically engineered diamondback moths will not have a significant impact on the quality of the human environment. Concurrent with this announcement, APHIS will issue a permit for the field release of the genetically engineered diamondback moth.

The EA and FONSI may be viewed on the Regulations.gov Web site (see footnote 1). Copies of the EA and FONSI are also available for public inspection at USDA, Room 1141, South Building, 14th Street and Independence Avenue SW., Washington, DC, between 8 a.m. and 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 30th day of June 2017.
Jere L. Dick,
Acting Administrator, Animal and Plant Health Inspection Service.

[FR Doc. 2017-14345 Filed 7-6-17; 8:45 am]

BILLING CODE 3410-34-P